DEPARTMENT OF TRANSPORTATION

Federal Aviation Administration

DEPARTMENT OF THE INTERIOR

National Park Service

Notice of Intent To Prepare an Environmental Impact Statement (EIS) for Actions To Substantially Restore Natural Quiet to the Grand Canyon National Park and Public Scoping

AGENCY: Federal Aviation Administration and National Park Service.

ACTION: Notice of Intent: Request for scoping comments.

SUMMARY: The Federal Aviation Administration (FAA) and the National Park Service (NPS), as co-leads in the environmental process, intend to prepare an Environmental Impact Statement (EIS) under the provisions of the National Environmental Policy Act of 1969, as amended. The EIS will address environmental and related impacts that may result from actions to be proposed and alternatives to be developed to achieve the statutory mandate of Public Law 100-91 (“commonly know as the Overflights Act”); to provide for the substantial restoration of the natural quiet and experience of Grand Canyon National Park (GCNP). The Presidential Memorandum dated April 22, 1996, Earth Day Initiative, Parks for Tomorrow calls for substantial restoration of natural quiet in the GCNP to be achieved by 2008. “Substantial restoration of natural quiet” has been defined by the NPS to mean that 50 percent or more of the park will achieve natural quiet (i.e., no aircraft audible) for 75 to 100 percent of the day.

This undertaking is a follow-on to previous actions taken by the FAA, in cooperation with the NPS, since December 1996.

The FAA and NPS are inviting the public, agencies, and other interested parties to provide comments, suggestions, and input regarding: (1) The scope, issues, and concerns related to the development of proposed and alternative actions at Grand Canyon National Park that provide for the substantial restoration of the natural quiet and experience of the park and protection of public health and safety from significant adverse effects associated with all aircraft overflights; (2) past, present, and reasonably foreseeable future actions which, when considered with any alternatives, may result in significant cumulative impacts; and, (3) potential alternatives.

The scoping process for this EIS will include three public meetings and a ninety-day comment period for interested agencies and parties to submit oral and/or written comments representing the concerns and issues they believe should be addressed. Please submit any written comments within ninety-days from the date of this Notice, or no later than April 27, 2006. Address your comments to: Docket Management System, Doc No. FAA-2005-23402, U.S. Department of Transportation, Room Plaza 401, 400 Seventh Street, SW., Washington, DC 20590-0001.

The purpose of this Notice is to inform Federal, State, local government agencies, and the public of the intent to prepare an Environmental Impact Statement (EIS) and to conduct a public and agency scoping process. Information, data, opinions, and comments obtained throughout the scoping process will be considered in preparing the Draft EIS.

To maximize the opportunities for public participation in this environmental process, the FAA and NPS will also publish notices in the major local newspapers in the vicinity of the study area.

DATES: The scoping period, and the opportunity to provide written comments will extend from publication of this Notice for a period of ninety-days. The forecast period of public and Agency scoping is January 20, through April 27, 2006.

Public Meetings: Public scoping meetings will be held in Phoenix, Arizona (AZ) on February 21, Flagstaff, AZ on February 22, and in Las Vegas, Nevada (NV) on February 23. Following are the specifics for each of the public meetings:

Phoenix—February 21, 2006; 4 p.m. to 8 p.m., Glendale Community College, 6000 W. Olive Ave., Glendale, AZ 85302;

Flagstaff—February 22; 4 p.m. to 8 p.m., Museum of Northern Arizona, 3101 N. Ft. Valley Rd., Flagstaff, AZ 86001; and,

Las Vegas—February 23; 4 p.m. to 8 p.m., Henderson Convention Center, 200 Water St., Henderson, NV 89015.

FOR FURTHER INFORMATION PLEASE CONTACT: Questions concerning the environmental process should be directed to either the FAA or the NPS. The FAA contact person is Mr. Barry Brayer. Mr. Brayer can be contacted in writing at Federal Aviation Administration, Executive Resource Staff (AWP-4) 15000 Aviation Blvd., PO Box 92007, Los Angeles, CA 90009-2007; or via telephone at (310) 725-3800.

The NPS contact person is Ms. Mary Killeen. She can be contacted at Chief, Office of Planning and Compliance, Grand Canyon National Park, P.O. Box 129, Grand Canyon, AZ 86023; or via telephone at (928) 638-7885.

SUPPLEMENTARY INFORMATION: The FAA and NPS, with a working group established under the auspices of the National Parks Overflights Advisory Group (NPOAG) and any cooperating agency(ies), will develop alternatives to meet the statutory mandate for substantial restoration of natural quiet to the GCNP.

In accordance with section 805 of the National Parks Air Tour Management Act of 2000, the Administrator of the FAA and the Director of the NPS jointly established the NPOAG on April 5, 2001. The NPOAG provides continuing advice and counsel with respect to commercial air tour operations over and near national parks. On October 10, 2003, the FAA Administrator signed FAA Order 1110.138, the NPOAG Aviation Rulemaking Committee Charter. The NPOAG is comprised of a balanced group of representatives of general aviation, commercial air tour operators, environmental interests, and American Indian tribes. Additional information related to the NPOAG can be found on their Web site at http://www.atmp.faa.gov/npoag.htm.

At the request of the FAA and NPS, the U.S. Institute of Environmental Conflict Resolution (USIECR) began working with the two agencies in 2003 to help develop a cooperative working relationship to facilitate the resolution of issues surrounding the implementation of the Overflights Act at Grand Canyon National Park. The agencies agreed to move forward with an Alternative Dispute Resolution (ADR) process and through the USIECR, the firm of Lucy Moore Associates, Inc. was contracted to assist in the ADR process. Additionally, the two agencies decided to create a working group, under the authority of the NPOAG, to assist in the process. Through notice in the Federal Register, the agencies invited nominations from individuals, who met certain criteria established for participation on the working group. The result was the establishment of the Grand Canyon Working Group that consists of representatives from FAA, NPS, air tour operators, environmental groups, American Indian Tribes, commercial and general aviation, recreational interests, and other federal agencies. The working group is specifically tasked with developing recommendations for proposed actions to meet the statutory mandate contained in the Overflights Act. Information obtained during the public scoping process will inform and assist the working group in developing recommendations. The working group will participate in the development of the EIS and in any rulemaking that may be required with respect to a final overflights plan.

Further, the FAA and NPS are aware of American Indian Tribes with ties to the GCNP. The FAA, NPS, and Tribes will interact on a government-to-government basis, in accordance with all executive orders, laws, regulations and other memoranda. They are also being invited to participate in the environmental process as Cooperating Agencies in accordance with NEPA and section 106 of the National Historic Preservation Act. To the extent practicable, compliance with section 106 will be combined with the NEPA process, pursuant to Title 36, Code of Federal Regulations, part 800, sections 800.3(b), and 800.8.

The environmental process of developing and reviewing alternatives to achieve the substantial restoration of natural quiet at the GCNP began in 1996. This is also the timeframe when consultation with American Indian Tribes with traditional cultural ties to the park began. Data and documentation from these previous actions have been retained and will be utilized, as necessary, as part of this current undertaking. As a result of the final rulemaking of December 31, 1996, flight free zones, air tours and reporting requirements were defined.

In February 2000, the FAA issued a Supplemental Final Environmental Assessment (SFEA) and Finding of No Significant Impact (FONSI) associated with a final rule to modify the airspace over the GCNP, and a final rule to limit the number of commercial air tour operations that could be flown in that airspace. In May 2000, the FAA implemented the final rule limiting commercial air tour operations. However, the FAA determined that implementation of the airspace and proposed commercial air tour route changes for the east end of the GCNP should be delayed to address safety concerns that had not been previously raised by the commercial air tour operators.

Additionally, in late-spring 2000, litigation related to the SFEA and FONSI was initiated. The litigation related to the final rule for airspace was stayed by the court pending FAA resolution of the safety issues. However, the Court remanded the SFEA, as it pertained to the limitations final rule, back to the FAA for resolution of several issues of concern between the FAA and NPS. Those issues have been substantially resolved and the FAA and NPS are ready to move forward with this EIS to develop and evaluate alternatives for a final overflights plan to substantially restore natural quiet in the GCNP.

Since 1996, there has been considerable public participation in the environmental processes associated with these actions. The FAA, in cooperation with the NPS, held numerous meetings with the Tribes and the public. Copies of the previous environmental documents from 1996 through 2000 were mailed to numerous Federal, State, and local agencies and elected officials; Tribes; private and public organizations and individuals; and libraries within the study area.

As this undertaking will be a follow-on to the previous actions, the December 1996 Final Environmental Assessment and the February 2000 Final Supplemental Environmental Assessment may be reviewed for additional supplemental information at one of the following libraries to which it was mailed:

Librarian, 113 South 1st St., Williams, AZ 86046.

Flagstaff Public Library, Public Service/Reference Room, 300 W. Aspen, Flagstaff, AZ 86001.

Fredonia Public Library, Director, P.O. Box 217, Fredonia, AZ 86022.

Grand Canyon Community Library, Librarian, P.O. Box 518, Grand Canyon, AZ 86023.

Phoenix Public Library, Government Documents, 1221 N. Central Ave., Phoenix, AZ 85004.

Phoenix Public Library, Arizona Room, 1221 N. Central Ave., Phoenix, AZ 85004.

Washington County Library, Reference Department, 50 South Main, St. George, UT 84770.

Kanab City Library, Director, 13 South 100 East #129-6, Kanab, UT 84741.

Mohave County Library, ATTN: Lee Smith, P.O. Box 7000, Kingman, AZ 86402-7000.

William C. Withycombe,
Western Pacific Regional Administrator, Federal Aviation Administration.
Steve Martin,
Deputy Director, National Park Service.

[FR Doc. 06-708 Filed 1-20-06; 2:48 pm]

BILLING CODE 4910-13-P